INTERNATIONAL TRADE COMMISSION

[Inv. No. 337-TA-564]

In the Matter of: Certain Voltage Regulators, Components Thereof and Products Containing Same; Enforcement Proceeding; Notice of Commission Determination Not To Review the Enforcement Initial Determination; Schedule for Briefing on the Issues of Remedy, Public Interest, and Bonding

AGENCY: U.S. International Trade Commission.

ACTION: Notice.

SUMMARY: The United States International Trade Commission hereby provides notice that it has determined not to review the Enforcement Initial Determination (“ID”) issued by the presiding administrative law judge (“ALJ”) on March 18, 2010 in the above-captioned investigation. Notice is further given that the Commission is requesting briefing on remedy, the public interest, and bonding with respect to the ID's findings and recommendations concerning enforcement measures.

FOR FURTHER INFORMATION CONTACT: Paul M. Bartkowski, Office of the General Counsel, U.S. International Trade Commission, 500 E Street, SW., Washington, DC 20436, telephone (202) 708-5432. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted the investigation underlying this enforcement proceeding on March 22, 2006, based on a complaint filed by Linear Technology Corporation (“Linear”) of Milpitas, California. 71 FR 14545. The complaint, as supplemented, alleged violations of section 337 of the Tariff Act of 1930 (19 U.S.C. **1337) in the importation into the United States, the sale for importation, and the sale within the United States after importation of certain voltage regulators, components thereof and products containing the same, by reason of infringement of certain claims of United States Patent No. 6,411,531 and of United States Patent No. 6,580,258 (“the ‘258 patent”). The complaint named Advanced Analogic Technologies, Inc. (“AATI”) of Sunnyvale, California as the sole respondent. After Commission review of the administrative law judge's (“ALJ”) final ID, the Commission determined that there was a violation of section 337 by AATI with respect to certain asserted claims of the `258 patent and issued a limited exclusion order (“LEO”) consistent with its findings of violation. Subsequently, based on an enforcement complaint filed by Linear, the Commission instituted an enforcement proceeding by notice in the Federal Register on October 10, 2008.

On March 18, 2010, the ALJ issued the subject ID, finding that, due to infringement of claims 2 and 34 of the `258 patent by the accused products, AATI violated the LEO. AATI filed a petition for review of certain aspects of the ID, and Linear filed a contingent petition for review of the ID. AATI and Linear filed responses to each others' petitions, and the Commission investigative attorney filed a joint response to the private parties' petitions. Having reviewed the record of the enforcement proceeding, including the petition for review and the responses thereto, the Commission has determined not to review the ID.

In connection with the final disposition of this proceeding, the Commission may (1) modify the LEO and/or (2) issue a cease-and-desist order that could result in the respondent being required to cease and desist from engaging in unfair acts in the importation and sale of the subject articles. Accordingly, the Commission is interested in receiving written submissions that address the form of remedy, if any, that should be ordered. The Commission is particularly interested in receiving briefing regarding potential modifications to the LEO that ensure exclusion of the products for which a violation was found. If a party seeks exclusion of an article from entry into the United States for purposes other than entry for consumption, the party should so indicate and provide information establishing that activities involving other types of entry either are adversely affecting it or likely to do so. For background, see In the Matter of Certain Devices for Connecting Computers via Telephone Lines, Inv. No. 337-TA-360, USITC Pub. No. 2843 (December 1994) (Commission Opinion).

If the Commission contemplates some form of remedy, it must consider the effects of that remedy upon the public interest. The factors the Commission will consider include the effect that a modified exclusion order and/or cease-and-desist orders would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve or disapprove the Commission's action. See Presidential Memorandum of July 21, 2005, 70 FR 43251 (July 26, 2005). During this period, the subject articles would be entitled to enter the United States under bond, in an amount determined by the Commission. The Commission is therefore interested in receiving submissions concerning the amount of the bond that should be imposed if a remedy is ordered.

Written Submissions: The parties to the investigation, interested government agencies, and any other interested parties are encouraged to file written submissions on the issues of remedy, the public interest, and bonding. All parties are requested to submit proposed remedial orders for the Commission's consideration. Complainants are requested to state the dates that the patents expire and the HTSUS numbers under which the accused products are imported. The written submissions and proposed remedial orders must be filed no later than close of business on June 2, 2010. Reply submissions, if any, must be filed no later than the close of business on June 11, 2010. No further submissions on these issues will be permitted unless otherwise ordered by the Commission.

Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR *201.6. Documents for which confidential treatment by the Commission is sought will be treated accordingly. All nonconfidential written submissions will be available for public inspection at the Office of the Secretary.

The authority for the Commission's determination is contained in section 337 of the Tariff Act of 1930, as amended (19 U.S.C. 1337), and in section 210.42 of the Commission's Rules of Practice and Procedure (19 CFR 210.42).

By order of the Commission.
Issued: May 14, 2010.
Marilyn R. Abbott,
Secretary to the Commission.

[FR Doc. 2010-12103 Filed 5-19-10; 8:45 am]

BILLING CODE 7020-02-P